DEPARTMENT OF HEALTH AND HUMAN SERVICES

Administration for Children and Families

Submission for OMB Review; Comment Request

Title: Performance Progress Report.

OMB No.: 0970-0334.

Description: The Performance Progress Report (SF-PPR) is a set of uniform reporting formats used for standard reporting on performance under grants and cooperative agreements.

In addition to allowing for uniformity of information collection, these formats will support systematic electronic collection and submission of information. These formats will provide interim and final performance progress information as required by OMB Circulars A-102 and 2 CFR part 215.

The SF-PPR consists of a cover page and six optional formats. The cover page contains identifying data elements and a section for a performance narrative. Use of the cover page is required, and programs may require their respondents to submit only this page and/or attach a performance narrative. Alternatively, programs may opt to require the cover page and one or more of the six optional formats: Performance Measures, Program Indicators, Benchmark Evaluations, Table of Activity Results, Activity-Based Expenditures, and Program/Project Management

The SF-PPR has been successfully piloted at the Administration for Children and Families (ACF). All discretionary programs (starting with FY09 awards) are to submit the SF-PPR to the ACF Office of Grants Management. Program offices with expiring data collections are required to migrate to the SF-PPR format. Additionally, a number of program offices have voluntarily migrated their collections to the SF-PPR format in anticipation of government-wide standardization. ACF, with its Online Data Collection tool (OLDC), has provided program offices with the capability to collect SF-PPR data electronically.

ACF and the Grants Center of Excellence (CoE) is sponsoring this collection on behalf of the Grants Policy Committee, other Federal grant-making agencies, and the CoE partners.

CoE Partners are defined as:

Corporation for National and Community Service,

Denali Commission,

Department of State,

DHHS/Administration on Aging,

DHHS/Centers for Medicare Services,

DHHS/Health Research and Services Administration,

DHHS/Indian Health Services,

DHHS/Office of Public Health Services,

DOT/Federal Air Administration,

DOT/Federal Highway Administration,

DOT/Federal Motor Carrier Safety Administration,

DOT/Federal Railroad Administration,

DOT/Federal Transport Administration,

DOT/Pipeline and Hazardous Materials Safety Administration,

Environmental Protection Agency,

Institute of Museum and Library Services,

Social Security Administration,

Department of Treasury,

USDA/Food Safety and Inspection Service,

Veterans Administration.

The revised burden estimates are based on grant projects and awards for ACF and its CoE partners for FY2008 as reported by internal ACF reporting systems and USASpending.gov.

Respondents: Federal government grantees

Annual Burden Estimates
Instrument | Number of respondents | Number of responses per respondent | Average burden hours per response | Total burden hours
Performance Progress Report (SF-PPR) | 131,281 | 1 | 0.42 | 55,138.02
Cover Page Continuation (SF-PPR-2) | 86 | 1 | 0.33 | 28.38
Performance Measures (SF-PPR-A) | 430 | 1 | 0.75 | 322.50
Program Indicators (SF-PPR-B) | 8,961 | 1 | 3 | 26,883
Benchmark Evaluations (SF-PPR-C) | 248 | 1 | 1.50 | 372
Table of Activity Results (SF-PPR-D) | 4,238 | 1 | 0.75 | 3,178.50
Activity Based Expenditures (SF-PPR-E) | 2,616 | 1 | 0.33 | 863.28
Program/Project Management (SF-PPR-F) | 45 | 1 | 0.50 | 22.50

Estimated Total Annual Burden Hours: 86,808.18

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: June 8, 2009.
Janean Chambers,
Reports Clearance Officer.

[FR Doc. E9-13728 Filed 6-10-09; 8:45 am]

BILLING CODE 4184-01-P